DEPARTMENT OF TRANSPORTATION

Federal Aviation Administration

14 CFR Part 71

[Docket No. FAA-2022-1558; Airspace Docket No. 22-AGL-11]

RIN 2120-AA66

Amendment and Establishment of Air Traffic Service (ATS) Routes in the Vicinity of Devils Lake, ND

AGENCY: Federal Aviation Administration (FAA), DOT.

ACTION: Final rule.

SUMMARY: This action amends Very High Frequency (VHF) Omnidirectional Range (VOR) Federal airways V-169, V-170, and V-430, and Area Navigation (RNAV) route T-331; and establishes RNAV route T-475. The FAA is taking this action due to the planned decommissioning of the VOR portion of the Devils Lake, ND (DVL), VOR/Distance Measuring Equipment (VOR/DME) navigational aid (NAVAID). The Devils Lake VOR is being decommissioned in support of the FAA's VOR Minimum Operational Network (MON) program.

DATES: Effective date 0901 UTC, August 10, 2023. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) routes as necessary to preserve the safe and efficient flow of air traffic within the National Airspace System (NAS).

History

The FAA published a notice of proposed rulemaking for Docket No. FAA-2022-1558 in the Federal Register (87 FR 76594; December 15, 2022), amending VOR Federal airways V-169, V-170, and V-430, and RNAV route T-331; and establishing RNAV route T-475 due to the planned decommissioning of the VOR portion of the Devils Lake, ND, VOR/DME NAVAID. Interested parties were invited to participate in this rulemaking effort by submitting written comments on the proposal. No comments were received.

Differences From the NPRM

Subsequent to the NPRM, the FAA published a rule for Docket No. FAA-2023-0501 in the Federal Register (88 FR 30896; May 15, 2023), amending RNAV route T-331 by updating the Squaw Valley, CA, VOR/DME route point with its new name, the Palisades, CA, VOR/DME. That editorial amendment, effective August 10, 2023, does not affect the route alignment or structure and is included in this rule.

Incorporation by Reference

VOR Federal airways are published in paragraph 6010(a) and United States Area Navigation Routes (T-routes) are published in paragraph 6011 of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending VOR Federal airways V-169, V-170, and V-430, and RNAV route T-331; and establishing RNAV route T-475 due to the planned decommissioning of the Devils Lake, ND, VOR. The ATS route actions are described below.

V-169: V-169 currently extends between the Tobe, CO, VOR/DME and the Devils Lake, ND, VOR/DME. The route segment between the Bismarck, ND, VOR/DME and the Devils Lake, ND, VOR/DME is removed. As amended, the airway extends between the Tobe VOR/DME and the Bismarck VOR/DME.

V-170: V-170 currently extends between the Devils Lake, ND, VOR/DME and the Sioux Falls, SD, VOR/Tactical Air Navigation (VORTAC); between the Rochester, MN, VOR/DME and the Salem, MI, VORTAC; and between the Slate Run, PA, VORTAC and the intersection of the Andrews, MD, VORTAC 060° and Baltimore, MD, VORTAC 165° radials (POLLA Fix). The airspace within R-5802 is excluded when active. The airway segment between the Devils Lake, ND, VOR/DME and the Jamestown, SD, VOR/DME is removed. As amended, the airway extends between the Jamestown VOR/DME and the Sioux Falls VORTAC; between the Rochester VOR/DME and the Salem VORTAC, and between the Slate Run VORTAC and the POLLA Fix. The R-5802 exclusion language remains unchanged.

V-430: V-430 currently extends between the Cut Bank, MT, VOR/DME and the Escanaba, MI, VOR/DME. The airway segment between the Minot, ND, VOR/DME and the Grand Forks, ND, VOR/DME is removed. As amended, the airway extends between the Cut Bank VOR/DME and the Minot VOR/DME, and between the Grand Forks VOR/DME and the Escanaba VOR/DME.

T-331: T-331 currently extends between the FRAME, CA, Fix and the FONIA, ND, Fix. The route is extended eastward from the FONIA Fix to the MECNU, MN, Fix located near the western shore of Lake Superior and the United States/Canada border. The T-331 extension overlies the current V-430 airway between the FIONA Fix and the Duluth, MN, VORTAC to provide an RNAV route alternative for the V-430 airway segment removed as noted previously. From the Duluth VORTAC, T-331 overlies VOR Federal airway V-13 to the MECNU Fix. The full route description is listed in the amendments to part 71 as set forth below.

T-475: T-475 is a new RNAV route that extends between the Bismarck, ND, VOR/DME and the GICHI, ND, waypoint (WP) located near the Devils Lake, ND, VOR/DME. The new route overlies the current V-169 airway and serves as a RNAV route alternative for the V-169 airway segment removed as noted previously. The full route description is listed in the amendments to part 71 as set forth below.

The NAVAID radials listed in the VOR Federal airway descriptions below are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-169, V-170, and V-430, and RNAV route T-331; and establishing RNAV route T-475 due to the planned decommissioning of the VOR portion of the Devils Lake, ND, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); paragraph 5-6.5b, which categorically excludes from further environmental impact review actions regarding establishment of jet routes and Federal airways (see 14 CFR 71.15, Designation of jet routes and VOR Federal airways); operation of civil aircraft in a defense area, or to, within, or out of the United States through a designated Air Defense Identification Zone (ADIZ) (14 CFR part 99, Security Control of Air Traffic); authorizations for operation of moored balloons, moored kites, amateur rockets, and unmanned free balloons (see 14 CFR part 101, Moored Balloons, Kites, Amateur Rockets and Unmanned Free Balloons); and, authorizations of parachute jumping and inspection of parachute equipment (see 14 CFR part 105, Parachute Operations); paragraph 5-6.5i, which categorically excludes from further environment impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. For modifications to air traffic procedures at or above 3,000 feet AGL, the Noise Screening Tool (NST) or other FAA-approved environmental screening methodology should be applied; and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-169 [Amended]

From Tobe, CO; 69 MSL, Hugo, CO; 38 miles, 67 MSL, Thurman, CO; Akron, CO; Sidney, NE; Scottsbluff, NE; Toadstool, NE; Rapid City, SD; Dupree, SD; to Bismarck, ND.

* * * * *

V-170 [Amended]

From Jamestown, ND; Aberdeen, SD; to Sioux Falls, SD. From Rochester, MN; Nodine, MN; Dells, WI; INT Dells 097° and Badger, WI, 304° radials; Badger; INT Badger 121° and Pullman, MI, 282° radials; Pullman; to Salem, MI. From Slate Run, PA; Selinsgrove, PA; Ravine, PA; INT Ravine 125° and Modena, PA, 318° radials; Modena; Dupont, DE; INT Dupont 223° and Andrews, MD, 060° radials; to INT Andrews 060° and Baltimore, MD, 165° radials. The airspace within R-5802 is excluded when active.

* * * * *

V-430 [Amended]

From Cut Bank, MT; 10 miles, 74 miles 55 MSL, Havre, MT; 14 miles, 100 miles 50 MSL, Glasgow, MT; INT Glasgow 100° and Williston, ND, 263° radials; 22 miles, 33 miles 55 MSL, Williston; to Minot, ND. From Grand Forks, ND; Thief River Falls, MN; INT Thief River Falls 122° and Grand Rapids, MN, 292° radials; Grand Rapids; Duluth, MN; Ironwood, MI; Iron Mountain, MN; to Escanaba, MI.

* * * * *

Paragraph 6011 United States Area Navigation Routes.

* * * * *

T-331 FRAME, CA to MECNU, MN [Amended]
FRAME, CA | FIX | (Lat. 36°36′46.74″ N, long. 119°40′25.53″ W)
NTELL, CA | WP | (Lat. 36°53′58.99″ N, long. 119°53′22.21″ W)
KARNN, CA | FIX | (Lat. 37°09′03.79″ N, long. 121°16′45.22″ W)
VINCO, CA | FIX | (Lat. 37°22′35.11″ N, long. 121°42′59.52″ W)
NORCL, CA | WP | (Lat. 37°31′02.66″ N, long. 121°43′10.60″ W)
MOVDD, CA | WP | (Lat. 37°39′40.88″ N, long. 121°26′53.53″ W)
EVETT, CA | WP | (Lat. 38°00′36.11″ N, long. 121°07′48.14″ W)
TIPRE, CA | WP | (Lat. 38°12′21.00″ N, long. 121°02′09.00″ W)
Palisades, CA (SWR) | VOR/DME | (Lat. 39°10′49.16″ N, long. 120°16′10.60″ W)
TRUCK, CA | FIX | (Lat. 39°26′15.67″ N, long. 120°09′42.48″ W)
Mustang, NV (FMG | VORTAC | (Lat. 39°31′52.60″ N, long. 119°39′21.87″ W)
Lovelock, NV (LLC) | VORTAC | (Lat. 40°07′30.95″ N, long. 118°34′39.34″ W)
Battle Mountain, NV (BAM) | VORTAC | (Lat. 40°34′08.69″ N, long. 116°55′20.12″ W)
TULIE, ID | WP | (Lat. 42°37′58.49″ N, long. 113°06′44.54″ W)
AMFAL, ID | WP | (Lat. 42°45′56.67″ N, long. 112°50′04.64″ W)
Pocatello, ID (PIH) | VOR/DME | (Lat. 42°52′13.38″ N, long. 112°39′08.05″ W)
VIPUC, ID | FIX | (Lat. 43°21′09.64″ N, long. 112°14′44.08″ W)
Idaho Falls, ID (IDA) | VOR/DME | (Lat. 43°31′08.42″ N, long. 112°03′50.10″ W)
SABAT, ID | FIX | (Lat. 44°00′59.71″ N, long. 111°39′55.04″ W)
Billings, MT (BIL) | VORTAC | (Lat. 45°48′30.81″ N, long. 108°37′28.73″ W)
EXADE, MT | FIX | (Lat. 47°35′56.78″ N, long. 104°32′40.61″ W)
JEKOK, ND | WP | (Lat. 47°59′31.05″ N, long. 103°27′17.51″ W)
FONIA, ND | FIX | (Lat. 48°15′35.07″ N, long. 103°10′37.54″ W)
Minot, ND (MOT) | VOR/DME | (Lat. 48°15′37.21″ N, long. 101°17′13.46″ W)
GICHI, ND | WP | (Lat. 48°06′54.20″ N, long. 098°54′45.14″ W)
Grand Forks, ND (GFK) | VOR/DME | (Lat. 47°57′17.40″ N, long. 097°11′07.33″ W)
Thief River Falls, MN (TVF) | VOR/DME | (Lat. 48°04′09.53″ N, long. 096°11′11.31″ W)
BLUOX, MN | FIX | (Lat. 47°34′33.13″ N, long. 095°01′29.11″ W)
Duluth, MN (DLH) | VORTAC | (Lat. 46°48′07.79″ N, long. 092°12′10.33″ W)
MECNU, MN | FIX | (Lat. 47°58′26.68″ N, long. 089°59′33.66″ W)
* * * * * * *
T-475 Bismarck, ND (BIS) to GICHI, ND [New]
Bismarck, ND (BIS) | VOR/DME | (Lat. 46°45′42.34″ N, long. 100°39′55.47″ W)
GICHI, ND | WP | (Lat. 48°06′54.20″ N, long. 098°54′45.14″ W)

* * * * *

Issued in Washington, DC, on May 18, 2023.
Brian Konie,
Acting Manager, Airspace Rules and Regulations.

[FR Doc. 2023-11092 Filed 5-24-23; 8:45 am]

BILLING CODE 4910-13-P